DEPARTMENT OF TRANSPORTATION

Federal Motor Carrier Safety Administration

Notice of Procedural Changes to the Performance and Registration Information Systems Management (PRISM) Program

AGENCY: Federal Motor Carrier Safety Administration (FMCSA), DOT.

ACTION: Notice; extension of effective date.

SUMMARY: FMCSA extends until September 1, 2012, the effective date for the procedural change to eliminate use of the “registrant-only” USDOT Number as part of the PRISM program. In an August 9, 2010, Federal Register notice, the Agency initially set September 1, 2011, as the effective date of the change. The extension will allow the Agency to provide additional implementation guidance based on feedback and information received since the August 9, 2010, notice of procedural change and will allow States and other stakeholders to make necessary changes to their systems and processes pursuant to this additional guidance.

DATES: The new effective date to eliminate use of the “registrant-only” USDOT Number as part of the PRISM program is September 1, 2012.

FOR FURTHER INFORMATION CONTACT: Stephen Parker, Transportation Specialist, Office of Enforcement and Compliance, Federal Motor Carrier Safety Administration, 1200 New Jersey Avenue, SE., Washington, DC 20590-0001; (202) 366-6407 (telephone); stephen.parker@dot.gov (e-mail).

Background

On August 9, 2010, FMCSA published a Federal Register notice announcing plans to eliminate the practice of allowing non-motor carrier registrants to obtain registrant-only USDOT Numbers under the PRISM program (76 FR 47883). The Agency developed the concept of a “registrant-only” USDOT Number in 1999 to identify registered owners of commercial motor vehicles (CMVs) that are not motor carriers but lease their CMVs to entities that are motor carriers. The Agency later concluded that registrant-only USDOT Numbers were being used differently than intended and announced the decision to eliminate the requirement for registrant-only USDOT Numbers. The FMCSA set September 1, 2011, as the effective date for the change.

Today's action extends the effective date until September 1, 2012, providing adequate time for all States participating in the PRISM program to complete process changes and for the Agency to provide updated guidance, as needed, to PRISM member jurisdictions and other stakeholders.

Issued on: August 25, 2001.
Anne S. Ferro,
Administrator.

[FR Doc. 2011-22318 Filed 8-30-11; 8:45 am]

BILLING CODE 4910-EX-P